DEPARTMENT OF EDUCATION

Jacob K. Javits Gifted and Talented Program—National Research and Development Center

AGENCY: Institute of Education Sciences (IES), Department of Education.

ACTION: Notice of extension of project period and waiver.

SUMMARY: The Director waives the requirements in Education Department General Administrative Regulations (EDGAR), in 34 CFR 75.250 and 75.261(c)(2), respectively, that generally prohibit project periods exceeding five years and project period extensions involving the obligation of additional Federal funds. This extension of project period and waiver will enable the current Jacob K. Javits Gifted and Talented Program—National Research and Development Center (Center) to be funded for an additional 12-month Federal funding period from October 1, 2005, until September 30, 2006, a period exceeding the original project period of five years. This extension will avoid any lapse in research and related activities conducted by the Center while IES is conducting a competition for a new award under this program during fiscal year 2006.

DATES: This notice is effective August 23, 2005.

FOR FURTHER INFORMATION CONTACT: Elizabeth Payer, Institute of Education Sciences, U.S. Department of Education, 555 New Jersey Avenue, NW., room 602C, Washington, DC 20208. Telephone: (202) 219-1310 or via Internet: elizabeth.payer@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: On June 13, 2000, we published a notice in the Federal Register (65 FR 37229) inviting applications for one award under the Jacob K. Javits Gifted and Talented Education Program—National Research and Development Center. The purpose of this program is to support a national research and development center to conduct research on methods and techniques for identifying and teaching gifted and talented students and for using gifted and talented programs and methods to serve all students. The authorizing statute for the Jacob K. Javits Gifted and Talented Education Program does not specify a project period for this program. See the Jacob K. Javits Gifted and Talented Students Education Act of 1994, 20 U.S.C. 8034 (2000) and the Jacob K. Javits Gifted and Talented Students Education Act of 2001, 20 U.S.C. 7253 (2000 Supplement 1).

The notice inviting applications, consistent with 34 CFR 75.250, established a project period of five years. The project period for the Center, as established in its initial grant award, is from October 1, 2000 until September 30, 2005.

Under section 191 of the Education Sciences Reform Act, 20 U.S.C. 9581, IES is not subject to section 437(d) of the General Education Provisions Act, 20 U.S.C. 1232(d), and, for that reason, can waive 34 CFR 75.250 and 75.261(c)(2) without providing notice and an opportunity for public comment. Accordingly, IES waives the requirements in 34 CFR 75.250 and 75.261(c)(2), which prohibit project periods exceeding five years and extensions of project periods that involve the obligation of additional Federal funds. The waiver of these provisions will allow IES to fund the current Center for an additional budget period of 12 months, from October 1, 2005 until September 30, 2006. This action is being taken in order to avoid any lapse in research and related activities carried out by the Center while IES is conducting a competition for a new award under this program during fiscal year 2006.

Regulatory Flexibility Act Certification

The Secretary certifies that the final extension of the project period and waiver would not have a significant economic impact on a substantial number of small entities. The only entity that would be affected is the current Center.

Paperwork Reduction Act of 1995

This final extension of project period and waiver does not contain any information collection requirements.

Intergovernmental Review

This program is not subject to the requirements of Executive Order 12372 and the regulations in 34 CFR part 79.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.206 Javits Gifted and Talented Education Grants Program)
Program Authority: 20 U.S.C. 7253c(d).
Dated: August 18, 2005.
Grover J. Whitehurst,
Director, Institute of Education Sciences.

[FR Doc. 05-16722 Filed 8-22-05; 8:45 am]

BILLING CODE 4000-01-U